DEPARTMENT OF ENERGY

Federal Energy Regulatory Commission

[Docket No. CP99-615-001]

Petal Gas Storage, L.L.C.; Notice of Amendment

June 1, 2001.

Take notice that on May 25, 2001, Petal Gas Storage, L.L.C. (Petal), 1001 Louisiana Street, P.O. Box 2511, Houston, Texas 77002, filed in Docket No. CP99-615-001, an application pursuant to section 7(c) of the Natural Gas Act to amend the certificate of public convenience and necessity issued March 15, 2000 in Docket No. CP99-615-000, to extend the timetable to complete construction of facilities, and to request certain other authorizations, all as more fully set forth in the application which is on file with the Commission and open to public inspection. This filing may be viewed on the web at http://www.ferc.fed.us/online/rims.htm (please call (202) 208-2222 for assistance).

Petal states that it requests authorization to amend the certificate previously issued by the Commission on March 15, 2000, in Docket No. CP99-615-000, so that Petal may modify the construction procedures and size of Cavern Nos. 6 and 7. Petal states that the changes in cavern size and construction are necessary because expansion of the two caverns has been delayed due to unforeseen circumstances. Petal states that although the working gas and cushion gas attributable to each cavern will change, the amendment will not change the total certificated capacity and working gas levels for the two caverns combined.

Petal states that it further requests authorization to move its cushion gas as may be necessary for operational purposes, or in the alternative, as necessary to complete the construction authorized in this docket pursuant to the revised construction method requested in the amendment.

Any questions concerning this application may be directed to David E. Maranville, Senior Counsel, El Paso Energy Corporation, 1001 Louisiana Street, P.O. Box 2511, Houston, Texas 77002-2511, call (713) 420-3525.

There are two ways to become involved in the Commission's review of this project. First, any person wishing to obtain legal status by becoming a party to the proceedings for this project should, on or before June 11, 2001, file with the Federal Energy Regulatory Commission, 888 First Street, NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Comments, protests and interventions may be filed electronically via the internet in lieu of paper. See, 18 CFR 385.2001(a)(1)(iii) and the instructions on the Commission's web site at http://www.fer.fed.us/efi/doorbell.htm.

If the Commission decides to set the application for a formal hearing before an Administrative Law Judge, the Commission will issue another notice describing that process. At the end of the Commission's review process, a final Commission order approving or denying a certificate will be issued.

David P. Boergers,
Secretary.

[FR Doc. 01-14376 Filed 6-6-01; 8:45 am]

BILLING CODE 6717-01-M